DEPARTMENT OF TRANSPORTATION

Federal Highway Administration

Buy America Waiver Notification System

AGENCY: Federal Highway Administration (FHWA), DOT.

ACTION: Notice.

SUMMARY: This notice provides a revised statement of policy concerning the FHWA's process for reviewing Buy America Waiver requests on Federal-aid highway construction projects. The FHWA has established a Web page to provide the public with an informal notice and comment opportunity for all Buy America waiver requests.

DATES: The policy became effective on December 26, 2007, when the President signed Public Law 110-161, the “Consolidated Appropriations Act, 2008” into law.

FOR FURTHER INFORMATION CONTACT: For questions about this notice, please contact Mr. Gerald Yakowenko, FHWA Office of Program Administration, (202) 366-1562, or via e-mail at gerald.yakowenko@dot.gov. For legal questions, please contact Mr. Michael Harkins, FHWA Office of the Chief Counsel, (202) 366-4928, or via e-mail at michael.harkins@dot.gov. Office hours for the FHWA are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available.

This notice provides information regarding the FHWA's implementation of an informal Buy America waiver notification and comment process as required by Public Law 110-161, the “Consolidated Appropriations Act, 2008.” Division K, Section 130 of this law states:

Not less than 15 days prior to waiving, under her statutory authority, any Buy America requirement for Federal-aid highway projects, the Secretary of Transportation shall make an informal public notice and comment opportunity on the intent to issue such waiver and the reasons therefore: Provided, That the Secretary shall provide an annual report to the Appropriations Committees of the Congress on any waivers granted under the Buy America requirements.

The FHWA has established an internet Web page (http://www.fhwa.dot.gov/construction/contracts/waivers.cfm) to provide notification and the opportunity for public comment for every Buy America waiver. Interested parties are encouraged to subscribe to this notification system to receive notifications regarding current waiver requests. The FHWA will review and consider all comments received during the comment period before issuing a final decision on any waiver request.

Authority: 23 U.S.C. 313; Pub. L. 110-161, 23 CFR 635.410.

Issued on: April 4, 2008.
James D. Ray,
Acting Federal Highway Administrator.

[FR Doc. E8-7664 Filed 4-10-08; 8:45 am]

BILLING CODE 4910-22-P